CONSUMER PRODUCT SAFETY COMMISSION

[Docket No. CPSC-2012-0054]

Submission for OMB Review; Comment Request— Safety Standard for Automatic Residential Garage Door Operators

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the Commission's safety standard for automatic residential garage door operators.

DATES: Written comments on this request for extension of approval of information collection requirements should be submitted by January 25, 2013.

ADDRESSES: To ensure that comments on the information collection are received, the OMB recommends that written comments be faxed to the Office of Information and Regulatory Affairs, OMB, Attn: CPSC Desk Officer, FAX: 202-395-6974, or emailed to oira_submission@omb.eop.gov. All comments should be identified by Docket No. CPSC-2012-0054. In addition, written comments also should be submitted at http://www.regulations.gov, under Docket No. CPSC-2012-0054, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; Telephone: 301-504-7923 or by email to: rsquibb@cpsc.gov.

SUPPLEMENTAL INFORMATION: In the Federal Register of October 4, 2012 and October 17, 2012 (77 FR 60686, 77 FR 63800), the Consumer Product Safety Commission published a notice in accordance with provisions of the Paperwork Reduction Act of 1995 (44 U.S.C. Chapter 35) to announce the agency's intention to seek extension of approval of the collection of information in the Safety Standard for Automatic Residential Garage Door Operators (16 CFR Part 1211). No comments were received in response to that notice. Therefore, by publication of this notice, the Commission announces that it has submitted to the Office of Management and Budget (OMB) a request for extension of approval of that collection of information without change.

The Consumer Product Safety Improvement Act of 1990 (Pub. L. 101- 608, 104 Stat. 3110) requires all automatic residential garage door openers manufactured after January 1, 1993, to comply with the entrapment protection requirements of UL Standard 325 that were in effect on January 1, 1992. In 1992, the Commission codified the entrapment protection provisions of UL Standard 325 in effect on January 1, 1992, as the Safety Standard for Automatic Residential Garage Door Operators, 16 CFR Part 1211, Subpart A. Certification regulations implementing the standard require manufacturers, importers, and private labelers of garage door operators subject to the standard to test their products for compliance with the standard, and to maintain records of that testing. Those regulations are codified at 16 CFR Part 1211, Subparts B and C.

The Commission uses the records of testing and other information required by the certification regulations to determine that automatic residential garage door operators subject to the standard comply with its requirements. The Commission also uses this information to obtain corrective actions if garage door operators fail to comply with the standard in a manner that creates a substantial risk of injury to the public.

We estimate that about 23 firms are subject to the testing and recordkeeping requirements of the certification regulations. We estimate that each respondent will spend 40 hours annually on the collection of information, for a total of about 920 hours. The estimated total annual cost to industry is approximately $25,429, based on 920 hours x $27.64 (Bureau of Labor Statistics, total compensation for all sales and office workers in goods-producing private industries: http://www.bls.gov/ncs).

Dated: December 20, 2012.
Todd A. Stevenson,
Secretary, Consumer Product Safety Commission.

[FR Doc. 2012-30991 Filed 12-21-12; 4:15 pm]

BILLING CODE 6355-01-P